DEPARTMENT OF ENERGY

National Nuclear Security Administration

Notice of Intent To Prepare an Environmental Impact Statement for the Operation of a Biosafety Level 3 Facility at Los Alamos National Laboratory, Los Alamos, NM

AGENCY: Department of Energy, National Nuclear Security Administration.

ACTION: Notice of intent.

SUMMARY: The National Nuclear Security Administration (NNSA), an agency within the U.S. Department of Energy (DOE), announces its intent to prepare an Environmental Impact Statement (EIS) to evaluate the operation of a Biosafety Level 3 Facility (BSL-3 Facility) at the Los Alamos National Laboratory (LANL) in Los Alamos, New Mexico. This EIS is being prepared and considered in accordance with requirements of the National Environmental Policy Act (NEPA) of 1969, regulations of the President's Council on Environmental Quality (40 CFR parts 1500 through 1508), and DOE's National Environmental Policy Act Implementing Procedures (10 CFR part 1021).

DATES: The public scoping period starts with the publication of this Notice in the Federal Register and will continue until December 29, 2005. DOE will consider all comments received or postmarked by that date in defining the scope of this EIS. Comments received or postmarked after that date will be considered to the extent practicable. Public scoping meetings will provide the public with an opportunity to present comments, ask questions, and discuss concerns regarding the EIS with NNSA officials. The locations, dates, and times for the public scoping meetings are as follows:

Tuesday, December 13, 2005, from 4 to 8 p.m., Fuller Lodge, 2132 Central Avenue, Los Alamos, New Mexico 87544.

Wednesday, December 14, 2005, from 4 to 8 p.m., Genoveva Chavez Community Center, 3221 Rodeo Road, Santa Fe, New Mexico 87505.

Thursday, December 15, 2005, from 4 to 8 p.m., Senior Stroke Center, 735 Vietnam Veterans Memorial Road, Española, New Mexico 87532.

NNSA will publish additional notices regarding the dates, times, and locations of the scoping meetings in local newspapers in advance of the scheduled meetings. Any necessary changes will be announced in the local media.

ADDRESSES: Written comments or suggestions concerning the scope of the BSL-3 Facility EIS or requests for more information on the EIS and public scoping process should be directed to: Lisa Cummings, EIS Document Manager, U.S. DOE, NNSA, Los Alamos Site Office, 528 35th Street, Los Alamos, New Mexico, 87544; facsimile at (505) 665-4873; or e-mail at LANL_BSL-3_EIS@doeal.gov. Ms. Cummings may also be reached by telephone at 1-866-506-2862.

FOR FURTHER INFORMATION CONTACT: For general information on the DOE NEPA process, please contact: Ms. Carol M. Borgstrom, Director, Office of NEPA Policy and Compliance, EH-42, USDOE, 1000 Independence Avenue SW., Washington, DC 20585, (202) 586-4600, or leave a message at 1-800-472-2756. Additional information regarding DOE NEPA activities and access to many NEPA documents, including the 1999 LANL Site-wide EIS, are available on the Internet through the NEPA Web site at http://www.eh.doe.gov/nepa.

SUPPLEMENTARY INFORMATION: The United States has identified an emerging threat to homeland security posed by the possible use of biological weapons. As a result, research and development activities involving biological select agents have increased. Biological select agents are viruses, bacteria, rickettsia, fungi, and toxins whose possession, transfer, and use are controlled by the Department of Health and Human Services (HHS) Centers for Disease Control and Prevention (CDC) due to their capability to cause substantial harm to human health. “Biosafety Levels” is a system devised by the CDC of well-defined facilities, equipment, and procedures designed to minimize risk of exposure to potentially hazardous agents for laboratory workers and the outside environment. Several entities are interested in conducting such work at LANL, including the Department of Homeland Security (DHS). Additionally, other Federal agencies in the intelligence and security communities, as well as military organizations, have expressed interest in working with LANL in this regard. Other research for these organizations is conducted at LANL. This research seeks to reduce the threat from terrorism using biological weapons and to enhance the Nation's public health capabilities. Future work in this field would seek to develop scientific tools to address national health security issues and global concerns for emerging diseases. The research conducted at the BSL-3 Facility would be solely defensive in nature, serving to identify and mitigate the threats that may be used against the United States in a biological attack.

In response to the needs discussed above, NNSA decided to construct a BSL-3 Facility at LANL. Prior to constructing the facility, NNSA analyzed the project pursuant to NEPA and in early 2002 issued an environmental assessment (EA) and a Finding of No Significant Impact (FONSI) for the construction and operation of the facility. These documents can be found at http://www.eh.doe.gov/nepa/ea/ea1364/tocindex.html and http://www.lanl.gov/orgs/pa/newsbulletin/2002/03/05/BSL-3%20EA%20Fonsi2.pdf.

After completion of the NEPA process and facility construction, NNSA identified new information concerning the BSL-3 Facility. NNSA determined that it was necessary to conduct additional seismic analysis of the location of the building on fill material on the sloping side of a canyon. Therefore, in early 2004, NNSA withdrew the portion of the FONSI that dealt with the operation of the BSL-3 Facility, and announced that it would prepare a supplemental environmental assessment on its proposal to operate the facility.

In January 2005, NNSA published a Notice of Intent to prepare a Supplemental Site-wide Environmental Impact Statement (S-SWEIS) for the continued operation of LANL. The notice stated that if a FONSI for operation of the BSL-3 Facility could not be issued, the analyses of the potential impacts of operating this facility would be included in the S-SWEIS. NNSA has since decided to prepare a new Site-wide EIS for LANL (SWEIS) rather than to supplement the 1999 SWEIS. The release of the draft SWEIS is now planned for 2006.

NNSA has decided that preparation of an EIS is the appropriate level of NEPA analysis for operation of the BSL-3 Facility and that this analysis should be conducted separately from the new SWEIS. The global situation with regard to bioterrorism continues to evolve. The ability to provide cutting-edge technology and resources to address the situation grows more important, and increases the urgency to decide whether to operate this BSL-3 Facility.

The Federal government, and in particular the intelligence community, is concerned that any delays in the schedule for the SWEIS could further delay a decision on whether to operate this critical homeland security facility. During the scoping process for the S-SWEIS conducted in January 2005, NNSA received comments from several members of the public stating that NNSA should prepare an EIS for the operation of the BSL-3 Facility. For these reasons, NNSA has decided to prepare a separate EIS for operation of the BSL-3 Facility. The SWEIS will evaluate all activities at LANL and will incorporate the results of related environmental impact analyses from other NEPA documents. The impacts identified in other NEPA documents will be combined with impact analyses performed specifically for the SWEIS. The impacts of the alternative selected by any decision regarding operation of the BSL-3 Facility would be included in the analysis of cumulative impacts prepared for the SWEIS.

The facility is a single-story, 3,200-square foot stucco building with a metal roof, housing a BSL-2 laboratory and two BSL-3 laboratories. Biosafety Level 2 is suitable for work involving agents of moderate potential hazard to personnel and the environment.

BSL Level 3 is required for clinical, diagnostic, teaching, research, or production facilities in which work is done with indigenous or exotic agents that may cause serious or potentially lethal disease as a result of exposure by inhalation. Laboratory personnel have specific training in handling pathogenic and potentially lethal agents, and are supervised by competent scientists who are experienced in working with these agents.

The facility is located on a site adjacent to Sigma Road and the paved parking area southwest of the Sigma Building north of the intersection of Pajarito Road and Diamond Drive. No operations of any type have been conducted in the facility.

Issues to be analyzed in the EIS include: Additional seismic analysis; safety of laboratory operations; public health and safety; handling, collection, treatment, and disposal of research wastes; other risks; pollution prevention; and potential impacts on air quality, biological resources, cultural resources, water resources, land use, and socioeconomic resources. The EIS will evaluate several alternatives: a “Proposed Action Alternative” analyzing operation of the BSL-3 Facility at LANL at the level permitted by CDC guidelines for a BSL-3 Facility; a “BSL-2 Alternative” analyzing operation of the facility at the level permitted for a BSL-2 Facility; and a “No-Action Alternative,” under which the constructed facility would not be operated. Additional alternatives, including potential facility modifications, may be identified during the scoping process.

Public Scoping Process: The scoping process is an opportunity for the public to assist NNSA in determining, among other things, reasonable alternatives and issues for analysis. The purpose of the scoping meetings is to receive oral and written comments from the public. The meetings will use a format to facilitate dialogue between NNSA and the public. NNSA welcomes specific comments or suggestions on the content of these alternatives, or on other alternatives that the public wishes NNSA to consider. The list of issues discussed above for consideration in the BSL-3 Facility EIS is tentative and intended to facilitate public comment on the scope of this EIS. It is not intended to be all-inclusive, nor does it imply any predetermination of potential impacts. The BSL-3 Facility EIS will analyze and describe the potential environmental impacts of the alternatives, using available data where possible and obtaining additional data where necessary. NNSA has invited the Department of Homeland Security to participate as a cooperating agency in the preparation of this EIS.

Copies of written comments and transcripts of oral comments will be made available at the following locations: the Los Alamos Outreach Center, 1350 Central Avenue, Suite 101, Los Alamos, New Mexico, 87544; and the Zimmerman Library, University of New Mexico, Albuquerque, New Mexico, 87131.

EIS Preparation Process: The process for preparing the BSL-3 Facility EIS begins with the publication of this Notice of Intent in the Federal Register. After the close of the public scoping comment period, NNSA will begin preparing the draft EIS. NNSA expects to issue a draft BSL-3 EIS for public review in the spring of 2006. Public comments on the draft will be accepted during a comment period of at least 45 days following publication of the Notice of Availability, by the United States Environmental Protection Agency. The Notice of Availability published in the Federal Register will provide the deadline for comments on the draft document. Other notices placed in local newspapers also identify dates and locations for public hearings on the draft BSL-3 Facility EIS. Issuance of the final BSL-3 Facility EIS is scheduled for late 2006.

Issued in Washington, DC, this 22 day of November, 2005.
Linton F. Brooks,
Administrator, National Nuclear Security Administration.

[FR Doc. 05-23455 Filed 11-28-05; 8:45 am]

BILLING CODE 6450-01-P